DEPARTMENT OF EDUCATION

Advisory Committee on Student Financial Assistance: Hearing

AGENCY: Advisory Committee on Student Financial Assistance, Education.

ACTION: Notice of an Open Meeting/Hearing.

SUMMARY: This notice sets forth the schedule and proposed agenda of a forthcoming meeting/hearing of the Advisory Committee on Student Financial Assistance. This notice also describes the functions of the Advisory Committee. Notice of this hearing is required under Section 10(a)(2) of the Federal Advisory Committee Act. This document is intended to notify the general public.

Date and Time: Friday, September 30, 2011, beginning at 9:00 a.m. and ending at approximately 5:00 p.m.

ADDRESSES: Washington Court Hotel, Atrium Ballroom, 525 New Jersey Avenue, NW., Washington, DC 20001.

FOR FURTHER INFORMATION CONTACT: Ms. Janet Chen, Associate Director of Special Analyses, Advisory Committee on Student Financial Assistance, Capitol Place, 80 F Street, NW., Suite 413, Washington, DC 20202-7582; (202) 219-2099.

Individuals who use a telecommunications device for the deaf (TTY) may call the Federal Information Relay Service (FRS) at 1-800-877-8339.

SUPPLEMENTARY INFORMATION: The Advisory Committee on Student Financial Assistance is established under Section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act. In addition, Congress expanded the Advisory Committee's mission in the Higher Education Opportunity Act of 2008 to include several important areas: access, Title IV modernization, early information and needs assessment, and review and analysis of regulations. Specifically, the Advisory Committee is to review, monitor, and evaluate the Department of Education's progress in these areas and report recommended improvements to Congress and the Secretary.

The one-day hearing will consist of two sessions. The first will be a discussion among representatives from the higher education community regarding the Advisory Committee's preliminary findings report on the Higher Education Regulations Study (HERS) to be released at the hearing. The second session will be a discussion among experts regarding the best practices of states and institutions to improve degree and certificate completion among nontraditional students.

Individuals who will need accommodations for a disability in order to attend the meeting/hearing (i.e., interpreting services, assistive listening devices, and/or materials in alternative format) should notify the Advisory Committee no later than Friday, September 16, 2011, by contacting Ms. Tracy Jones at (202) 219-2099 or via e-mail at tracy.deanna.jones@ed.gov. We will attempt to meet requests after that date, but cannot guarantee availability of the requested accommodation. The meeting/hearing site is accessible to individuals with disabilities.

Interested parties who wish to comment on one or both of the above topics may submit a written statement to the Advisory Committee. To provide written comment, please e-mail ACSFA@ed.gov indicating in the subject line one or both of the hearing topics. Send comments as an attached file, either .doc, .docx, or .pdf. Comments may also be mailed to: ACSFA, 80 F Street, NW., Suite 413, Washington, DC 20202-7582. Comments must be received on or before September 21, 2011.

Space for the hearing is limited and you are encouraged to register early. You may register on the Advisory Committee's Web site, http://www2.ed.gov/ACSFA or by sending an e-mail to the following address: ACSFA@ed.gov or Tracy.Deanna.Jones@ed.gov. Please include your name, title, affiliation, mailing and e-mail addresses, and telephone and fax numbers. If you are unable to register electronically, you may fax your registration information to the Advisory Committee staff office at (202) 219-3032. The registration deadline is Wednesday, September 21, 2011.

Records are kept for Advisory Committee proceedings, and are available for inspection at the Office of the Advisory Committee on Student Financial Assistance, Capitol Place, 80 F Street, NW.—Suite 413, Washington, DC between the hours of 9:00 a.m. and 5:30 p.m. Monday through Friday, except Federal holidays. Information regarding the Advisory Committee is available on the Committee's Web site, http://www2.ed.gov/ACSFA.

Electronic Access to This Document: You may view this document, as well as other documents of this Department published in the Federal Register, in text or Adobe Portable Document Format (PDF) on the Internet at the following site: http://www.ed.gov/news/fedregister/index.html.

To use PDF you must have Adobe Acrobat Reader, which is available free at the Federal Register Web site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.gpoaccess.gov/nara/index.html.

Dated: August 17, 2011.
William J. Goggin,
Executive Director, Advisory Committee on Student Financial Assistance.

[FR Doc. 2011-21351 Filed 8-19-11; 8:45 am]

BILLING CODE 4000-01-P